DEPARTMENT OF HOMELAND SECURITY

Coast Guard

33 CFR Part 165

[CGD09-07-002]

RIN 1625-AA00

Safety Zones; Annual Fireworks Events in the Captain of the Port Milwaukee Zone

AGENCY: Coast Guard, DHS.

ACTION: Notice of enforcement of regulation.

SUMMARY: The Coast Guard will enforce the Manitowoc St. Patrick's Day Fireworks safety zone on the Manitowoc River on March 17, 2007 from 5:30 p.m. through 7 p.m. This action is necessary to protect the public from the hazards associated with fireworks displays. During the enforcement period no person or vessel may enter the safety zone without the permission of the Captain of the Port or his designated representative.

DATES: Effective from 5:30 p.m. (local) through 7 p.m. (local) on March 17, 2007.

FOR FURTHER INFORMATION CONTACT: CWO Brad Hinken, Prevention Department, Coast Guard Sector Lake Michigan, 2420 South Lincoln Memorial Drive, Milwaukee, WI at (414) 747-7154.

SUPPLEMENTARY INFORMATION: We are publishing this document to provide notice that under the provisions of 33 CFR 165.909(a)(11), the St. Patrick's Day Fireworks safety zone on the Manitowoc River will be enforced on March 17, 2007 from 5:30 p.m. through 7 p.m. The safety zone consists of all waters and adjacent shoreline across from the World War II U.S. Cobia submarine, Manitowoc River encompassed by the arc of a circle with a 70-foot radius with its center in approximate position 44°05.30′ N, 087°39.15′ W (NAD 1983).

In order to ensure the safety of spectators and transiting vessels, this safety zone will be in effect for the duration of the event. In the event that this safety zone affects shipping, commercial vessels may request permission from the Captain of the Port Lake Michigan to transit through the safety zone.

Requests must be made in advance and approved by the Captain of the Port before transits will be authorized. The Captain of the Port may be contacted via U.S. Coast Guard Sector Lake Michigan on channel 16, VHF-FM. The Coast Guard will give notice to the public via a Broadcast Notice to Mariners that the regulation is in effect.

Dated: February 27, 2007.
B.C. Jones,
Captain, U.S. Coast Guard, Captain of the Port Sector Lake Michigan.

[FR Doc. E7-4109 Filed 3-7-07; 8:45 am]

BILLING CODE 4910-15-P